DEPARTMENT OF JUSTICE

28 CFR Part 28

[Docket No. OAG 108; A.G. Order No. 2753-2005]

RIN 1105-AB09

DNA Sample Collection From Federal Offenders Under the Justice for All Act of 2004

AGENCY: Department of Justice, Office of the Attorney General.

ACTION: Corrections to interim rule.

SUMMARY: This document contains corrections to the interim rule published Monday, January 31, 2005, at 70 FR 4763, relating to DNA sample collection from federal offenders under the Justice for All Act of 2004. These corrections conform the references in the preamble to the actual paragraph designations in § 28.2(b)(3) and also correct a typographical error.

DATES: Effective March 7, 2005.

FOR FURTHER INFORMATION CONTACT: David J. Karp, Senior Counsel, Office of Legal Policy, Room 4509, Main Justice Building, 950 Pennsylvania Avenue, NW., Washington, DC 20530.

SUPPLEMENTARY INFORMATION: The interim rule that is the subject of these corrections implements section 203(b) of Pub. L. 108-405, the Justice for All Act of 2004. The rule amends 28 CFR 28.2 to reflect the expansion of the class of federal offenses, conviction for which results in the collection of DNA samples from the offenders, to include all felonies.

Corrections:

1. On page 4765, in the second column, in the second full paragraph, in the eighteenth line, “28.2(a)(1)’s” is deleted and “28.2(b)(1)’s” is added in lieu thereof.

2. On page 4765, in the third column, in the first paragraph, in the sixteenth line, “(b)(3)(A)” is deleted and “(b)(3)(i)” is added in lieu thereof.

3. On page 4765, in the third column, in the first paragraph, in the thirty-first line, “(b)(3)(A)” is deleted and “(b)(3)(i)” is added in lieu thereof.

4. On page 4765, in the third column, in the second paragraph, in the fifth line, “(b)(3)(A)” is deleted and “(b)(3)(i)” is added in lieu thereof.

5. On page 4766, in the first column, in the first full paragraph, in the first line, “(b)(3)(B)” is deleted and “(b)(3)(ii)” is added in lieu thereof.

6. On page 4766, in the first column, in the first full paragraph, in the fifteenth line, “(b)(3)(B)” is deleted and “(b)(3)(ii)” is added in lieu thereof.

7. On page 4766, in the first column, in the second full paragraph, in the eighteenth line, “(b)(3)(I)” is deleted and “(b)(3)(ix)” is added in lieu thereof.

Rosemary Hart,
Federal Register Liaison Officer.

[FR Doc. 05-4303 Filed 3-4-05; 8:45 am]

BILLING CODE 4410-19-P